DEPARTMENT OF STATE

[Public Notice 3529]

Culturally Significant Objects Imported for Exhibition Determinations: “Gerome & Goupil: Art and Enterprise”

DEPARTMENT: Department of State.

ACTION: Notice.

SUMMARY: Notice is hereby given of the following determinations: Pursuant to the authority vested in me by the Act of October 19, 1965 (79 Stat. 985, U.S.C. 2459), the Foreign Affairs Reform and Restructuring Act of 1998 (112 Stat. 2681 et seq.), Delegation of Authority No. 234 of October 1, 1999 (64 FR 56014), and Delegation of Authority No. 236 of October 19, 1999 (64 FR 57920), as amended by Delegation of Authority No. 236-3 of August 28, 2000 (65 FR 53795), I hereby determine that the objects to be included in the exhibit, “Gerome & Goupil: Art and Enterprise,” imported from abroad for the temporary exhibition without profit within the United States, are of cultural significance. These objects are imported pursuant to loan agreements with foreign lenders. I also determine that the temporary exhibition or display of the exhibit objects at the Dahesh Museum in New York, New York from on or about February 6, 2001, to on or about May 5, 2001, and at The Frick Art and Historical Center, Pittsburgh, Pennsylvania from June 7, 2001, to on or about August 12, 2001, is in the national interest. Public Notice of these determinations is ordered to be published in the Federal Register.

FOR FURTHER INFORMATION CONTACT: For further information, including a list of exhibit objects, contact Paul W. Manning, Attorney-Adviser, Office of the Legal Adviser, 202/619-5997, and the address is SA-44, Room 700, United States Department of State, 301 4th Street, SW., Washington, DC 20547-0001.

Dated: December 19, 2000.
William B. Bader,
Assistant Secretary for Educational and Cultural Affairs, Department of State.

[FR Doc. 00-32871 Filed 12-22-00; 8:45 am]

BILLING CODE 4710-08-P